DEPARTMENT OF DEFENSE

National Reconnaissance Office

32 CFR Part 326

NRO Privacy Act Program

AGENCY: National Reconnaissance Office, DOD.

ACTION: Proposed rule.

SUMMARY: The National Reconnaissance Office (NRO) is proposing to add a new responsibility for NRO employees under the NRO Privacy Act Program. NRO employees are now required to participate in specialized Privacy Act training should their duties require dealing with special investigators, the news media, or the public.

This amendment is triggered by a change made to the Department of Defense Privacy Program (32 CFR part 310) on August 7, 2000, at 65 FR 48169.

DATES: Comments must be received by November 6, 2000 to be considered by the agency.

ADDRESSES: National Reconnaissance Office, Information Access and Release Center, 14675 Lee Road, Chantilly, VA 20151-1715.

FOR FURTHER INFORMATION CONTACT: Ms. Barbara Freimann at (703) 808-5029.

SUPPLEMENTARY INFORMATION:

Executive Order 12866, ‘Regulatory Planning and Review’

It has been determined that 32 CFR part 321 is not a significant regulatory action. The rule does not:

(1) Have an annual effect to the economy of $100 million or more; or adversely affect in a material way the economy; a section of the economy; productivity; competition; jobs; the environment; public health or safety; or state, local, or tribal governments or communities;

(2) Create a serious inconsistency or otherwise interfere with an action taken or planned by another Agency;

(3) Materially alter the budgetary impact of entitlements, grants, user fees, or loan programs or the rights and obligations of recipients thereof;

(4) Raise novel legal or policy issues arising out of legal mandates, the President's priorities, or the principles set forth in this Executive Order.

Public Law 96-354, ‘Regulatory Flexibility Act’ (5 U.S.C. 601)

It has been certified that this rule is not subject to the Regulatory Flexibility Act (5 U.S.C. 601) because it would not, if promulgated, have a significant economic impact on a substantial number of small entities.

Public Law 96-511, ‘Paperwork Reduction Act’ (44 U.S.C. Chapter 35)

It has been certified that this part does not impose any reporting or record keeping requirements under the Paperwork Reduction Act of 1995.

List of Subjects in 32 CFR Part 326

Privacy.

1. The authority citation for 32 CFR part 326 continues to read as follows:

Authority: Pub. L. 93-579, 88 Stat 1896 (5 U.S.C. 552a).

2. Section 326.5, is to be amended by adding paragraph (j)(11) to read follows:

§ 326.5 Responsibilities.

* * * * *

(j) Employees, NRO:

* * * * *

(11) Will participate in specialized Privacy Act training should their duties require dealing with special investigators, the news media, or the public.

* * * * *

Dated: August 30, 2000.
L.M. Bynum,
Alternate OSD Federal Register Liaison Officer, Department of Defense.

[FR Doc. 00-22699 Filed 9-5-00; 8:45 am]

BILLING CODE 5001-10-F